DEPARTMENT OF HEALTH AND HUMAN SERVICES

Centers for Medicare & Medicaid Services

[Document Identifier: CMS-10328]

Agency Information Collection Activities: Proposed Collection; Comment Request; Correction

AGENCY: Centers for Medicare & Medicaid Services (CMS), HHS.

ACTION: Correction of notice.

SUMMARY: This document corrects the information provided for [Document Identifier: CMS-10328] titled “Medicare Self-Referral Disclosure Protocol.”

FOR FURTHER INFORMATION CONTACT: William N. Parham, III, (410) 786-4669.

SUPPLEMENTARY INFORMATION:

I. Background

In the June 26, 2019, issue of the Federal Register (84 FR 30123), we published a Paperwork Reduction Act notice requesting a 60-day public comment period for the information collection request identified under CMS-10328, OMB control number 0938-1106, and titled “Medicare Self-Referral Disclosure Protocol.”

II. Explanation of Error

In the June 26, 2019, notice, the information provided in the second column of the notice on page 30125, was published with incorrect information in the “Number of Respondents,” the “Total Annual Responses,” and the “Total Hours” sections. This notice corrects the language found in the “Number of Respondents,” the “Total Annual Responses,” and the “Total Hours” sections under the third column in the middle of the column on page 30125 of the June 26, 2019. All of the other information contained in the June 26, 2019, notice is correct. The related public comment period remains in effect and ends August 26, 2019.

III. Correction of Error

In FR Doc. 2019-13608 of June 26, 2019 (84 FR 30123), page 30125, the language in the middle of the second column that begins with “[Number of Respondents” and ends with “Total Annual Hours: 194,250.]” is corrected to read as follows:

[Number of Respondents: 100; Total Annual Responses: 100; Total Annual Hours: 5,000.]

Dated: July 3, 2019.
William N. Parham, III,
Director, Paperwork Reduction Staff, Office of Strategic Operations and Regulatory Affairs.

[FR Doc. 2019-14650 Filed 7-9-19; 8:45 am]

BILLING CODE 4120-01-P